DEPARTMENT OF LABOR

Mine Safety and Health Administration Proposed Information Collection Request Submitted for Public Comment and Recommendations; Notification of Commencement of Operations and Closing of Mines

ACTION: Notice.

SUMMARY: The Department of Labor, as part of its continuing effort to reduce paperwork and respondent burden conducts a pre-clearance consultation program to provide the general public and Federal Agencies with an opportunity to comment on proposed and/or continuing collections of information in accordance with the Paperwork Reduction Act of 1995 (PRA95) (44 U.S.C. 3506 (c)(c)(A)). This program helps to ensure that requested data can be provided in the desired format, reporting burden (time and financial resources (is minimized, collection instruments are clearly understood, and the impact of collection requirements on respondents can be properly assessed.

Currently, the Mine Safety and Health Administration (MSHA) is soliciting comments concerning the extension of the information collection related to the 30 CFR sections 56.1000 and 57.1000; Notification of Commencement of Operations and Closing of Mines.

DATES: Submit comments on or before February 18, 2003.

ADDRESSES: Send comments to Jane Tarr, Management Analyst, Administration and Management 1100 Wilson Boulevard, Room 2171, Arlington, VA 22209-3939. Commenters are encouraged to send their comments on computer disk, or via Internet E-mail to Tarr-Jane@Msha.Gov. Ms. Tarr can be reached at (202) 693-9824 (voice), or (202) 693-9801 (facsimile).

FOR FURTHER INFORMATION CONTACT: Jane Tarr, Management Analyst, Record Management Group, U.S. Department of Labor, Mine Safety and Health Administration, Room 2171, 1100 Wilson Boulevard, Arlington, VA 22209-3939. Ms. Tarr can be reached at Tarr-Jane@Msha.Gov. (Internet E-mail), (202) 693-9824 (voice), or (202) 693-9801 (facsimile).

SUPPLEMENTARY INFORMATION:

I. Background

Sections 56.1000 and 57.1000 state that the owner, operator, or person in charge of any metal and nonmetal mine shall notify the nearest MSHA Metal and Nonmetal Mine Safety and Health District Office before starting operations, of the approximate or actual date mine operation will commence. The notification shall include the mine name, location, the company name, mailing address, person in charge, and whether operations will be continuous or intermittent. When any mine is closed, the person in charge shall notify the nearest sub-district office as provided above and indicate whether the closure is temporary or permanent.

II. Desired Focus of Comments

MSHA is particularly interested in comments which:

• Evaluate whether the proposed collection of information is necessary for the proper performance of the functions of the agency including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request can be obtained by contacting the employee listed in the FOR FURTHER INFORMATION CONTACT section of this notice, or viewed on the Internet by accessing the MSHA home page (http://www.msha.gov) and then choosing “Statutory and Regulatory Information” and “Federal Register Documents.”

III. Current Actions

Under 30 CFR 56.1000 and 57,1000, operators of metal and nonmetal mines must notify MSHA when the operation of a mine will commence or when a mine is closed. Openings and closings of mines are dictated by the economic strength of the mined commodity and by weather conditions prevailing at the mine site during various seasons.

Type of Review: Extension.

Agency: Mine Safety and Health Administration.

Title: Notification of Commencement of Operations and Closing of Mines.

OMB Number: 1219-0092.

Recordkeeping: Sections 56.1000 and 57.1000 state that the owner, operator, or person in charge of any metal and nonmetal mines shall notify the nearest MSHA Metal and Nonmetal Mine Safety and Health District Office before starting operations, of the approximate or actual date mine operation will commence. The notification shall include the mine name, location, the company name, mailing address, person in charge, and whether operations will be continuous or intermittent.

When any mine is closed, the person in charge shall notify the nearest sub-district office as provided above and indicate whether the closure is temporary or permanent.

Frequency: On occasion.

Affected Public: Business or other for-profit.

Respondents: 2,300.

Estimated Time Per Respondent: .113 hours.

Total Burden Hours: 259 hours.

Total Burden Cost (capital/startup): $0.

Total Burden Cost (operating/maintaining): $1,446.

Comments submitted in response to this notice will be summarized and/or included in the request for Office of Management and Budget approval of the information collection request; they will also become a matter of public record.

Dated: Dated in Arlington, Virginia, this 11th day of December, 2002.
David L. Meyer,
Director, Office of Administration and Management.

[FR Doc. 02-31763 Filed 12-17-02; 8:45 am]

BILLING CODE 4510-43-M